DEPARTMENT OF THE TREASURY

Office of Foreign Assets Control

Sanctions Actions Pursuant to the Foreign Narcotics Kingpin Designation Act

SUB-AGENCY: Office of Foreign Assets Control, Treasury.

ACTION: Notice.

SUMMARY: The U.S. Department of the Treasury's Office of Foreign Assets Control (OFAC) is publishing the names of two entities whose property and interests in property are blocked pursuant to the Foreign Narcotics Kingpin Designation Act (Kingpin Act).

DATE: OFAC's actions described in this notice were effective on April 20, 2017.

FOR FURTHER INFORMATION CONTACT: OFAC: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The Specially Designated Nationals and Blocked Persons List (SDN List) and additional information concerning OFAC sanctions programs are available on OFAC's Web site (http://www.treasury.gov/ofac).

Notice of OFAC Actions

On April 20, 2017, OFAC's Acting Director determined that the property and interests in property of the following persons are blocked.

Entities

1. GRUPO SEGTAC, S.A. DE C.V. (a.k.a. GRUPO INMOBILIARIO SEGTAC; a.k.a. GRUPO SEGTAC INMOBILIARIA), Av. Chapultepec No. 15, Piso 16-A Of. 1, Colonia Ladron de Guevara, Guadalajara, Jalisco, Mexico; R.F.C. GSE1111188QA (Mexico); Folio Mercantil No. 66501 (Mexico) [SDNTK]. Designated pursuant to section 805(b)(3) of the Kingpin Act, 21 U.S.C. 1904(b)(3) (Kingpin Act) for being controlled or directed by, or acting for or on behalf of, Abigael GONZALEZ VALENCIA, PLAZA LOS TULES, and XAMAN HA CENTER, foreign persons designated by the Secretary of the Treasury pursuant to the Kingpin Act.

2. YORV INMOBILIARIA, Av. Naciones Unidas 6875 LB17-1, Zapopan, Jalisco, Mexico; Web site http://yorvinmobiliaria.com [SDNTK]. Designated pursuant to section 805(b)(3) of the Kingpin Act, 21 U.S.C. 1904(b)(3) (Kingpin Act) for being controlled or directed by, or acting for or on behalf of, Abigael GONZALEZ VALENCIA, PLAZA LOS TULES, and XAMAN HA CENTER, foreign persons designated by the Secretary of the Treasury pursuant to the Kingpin Act.

Dated: April 20, 2017.
Andrea M. Gacki,
Acting Director, Office of Foreign Assets Control.

[FR Doc. 2017-08310 Filed 4-24-17; 8:45 am]

BILLING CODE 4810-AL-P